Proclamation 9421 of April 8, 2016

National Former Prisoner of War Recognition Day, 2016

By the President of the United States of America

A Proclamation

Under the flag of the United States, generations of women and men, united in a common cause greater than themselves, have served to defend the ideals that bind us together as a Nation and that preserve our country as a beacon of hope and freedom around the world. On National Former Prisoner of War Recognition Day, we salute the selfless service members throughout our history who gave of their own liberty to ensure ours, and we renew our commitment to remaining a Nation worthy of their extraordinary sacrifices.

In wars and engagements since America's founding, brave patriots have experienced indescribable suffering as prisoners of war. Often physically and mentally tortured, starved, and put through the worst most of us could imagine, these heroes are owed a debt we can never fully repay, and their families—who exhibited tremendous fortitude in the face of grueling uncertainty—are worthy of our profound gratitude. The values of honor, courage, and selflessness that drive our Armed Forces are particularly acute in those who have been taken as prisoners of war, sustaining them through days, weeks, and sometimes years of profound hardship endured for the sake of securing the blessings of liberty for all.

America's former prisoners of war—and all who don our uniform to keep us safe—have helped make our Nation the strongest and most prosperous in the history of the world. Our eternal obligation is to care for them and uphold our everlasting promise to never leave our men and women on the battlefield behind. Let us reaffirm our adherence to these ideals and honor our former prisoners of war by paying them the gratitude and respect they deserve.

NOW, THEREFORE, I, BARACK OBAMA, President of the United States of America, by virtue of the authority vested in me by the Constitution and the laws of the United States, do hereby proclaim April 9, 2016, as National Former Prisoner of War Recognition Day. I call upon all Americans to observe this day of remembrance by honoring all American prisoners of war, our service members, and our veterans. I also call upon Federal, State, and local government officials and organizations to observe this day with appropriate ceremonies and activities.

IN WITNESS WHEREOF, I have hereunto set my hand this eighth day of April, in the year of our Lord two thousand sixteen, and of the Independence of the United States of America the two hundred and fortieth.

[FR Doc. 2016-08710

Filed 4-12-16; 11:15 am]

Billing code 3295-F6-P